DEPARTMENT OF HOMELAND SECURITY

Coast Guard

33 CFR Part 165

[Docket No. USCG-2012-1057]

Safety Zone; Sprucewold Cabbage Island Swim, Linekin Bay, Boothbay Harbor, ME

AGENCY: Coast Guard, DHS.

ACTION: Notice of enforcement of regulation.

SUMMARY: The Coast Guard will enforce a safety zone in the Captain of the Port Northern New England Zone on the specified date and time. This action is necessary to ensure the safety of participants, vessels and spectators from hazards associated with the swim event. During the enforcement period, no person or vessel may enter the safety zone without permission of the Captain of the Port.

DATES: The regulation for the Sprucewold Cabbage Island Swim safety zone described in 33 CFR 165.171 will be enforced on August 18, 2013, from 1 p.m. to 4 p.m.

FOR FURTHER INFORMATION CONTACT: If you have questions on this notice, call or email Lieutenant Junior Grade Elizabeth Morris, Coast Guard; telephone 207-767-0398, email Elizabeth.V.Morris@uscg.mil.

SUPPLEMENTARY INFORMATION: The Coast Guard will enforce the safety zone listed in 33 CFR 165.171 on the specified date and time as indicated in Table 1 below. This regulation was published in the Federal Register on April 20, 2012 (77 FR 23608).

Table 1
1. Sprucewold Cabbage Island Swim, Linekin Bay, Boothbay Harbor, ME Safety Zone, 33 CFR 165.171(8.1) | • Event Type: Swim Event. • Sponsor: Sprucewold Association. • Date: August 18, 2013. • Time: 1:00 p.m. to 4:00 p.m. • Location: The regulated area includes all waters of Linekin Bay between Cabbage Island and Sprucewold Beach in Boothbay Harbor, Maine within the following points (NAD 83):
| 43°50′37″ N, 069°36′23″ W.
| 43°50′37″ N, 069°36′59″ W.
| 43°50′16″ N, 069°36′46″ W.
| 43°50′22″ N, 069°36′21″ W.

Under the provisions of 33 CFR 165.171, vessels may not transit the regulated areas without Patrol Commander approval. Vessels permitted to transit must operate at a no wake speed, in a manner which will not endanger participants or other crafts in the event. Spectators or other vessels shall not anchor, block, loiter, or impede the movement of event participants or official patrol vessels in the regulated areas during the effective dates and times, or dates and times as modified through the Local Notice to Mariners, unless authorized by an official patrol vessel. The Patrol Commander may control the movement of all vessels in the regulated area. When hailed or signaled by an official patrol vessel, a vessel shall come to an immediate stop and comply with the lawful directions issued. Failure to comply with a lawful direction may result in expulsion from the area, citation for failure to comply, or both. Vessels not associated with the event shall maintain a separation zone of 200 feet from participating swimmers. The Coast Guard may be assisted by other Federal, State, or local law enforcement agencies in enforcing this regulation.

This notice is issued under authority of 33 CFR 165.171 and 5 U.S.C. 552(a). In addition to this notice in the Federal Register, the Coast Guard will provide mariners with advanced notification of enforcement periods via the Local Notice to Mariners and marine information broadcasts. If the COTP determines that the regulated area need not be enforced for the full duration stated in this notice, a Broadcast Notice to Mariners may be used to grant general permission to enter the regulated area.

Dated: July 29, 2013.
B.S. Gilda,
Captain, U.S. Coast Guard, Captain of the Port Northern New England.

[FR Doc. 2013-19420 Filed 8-9-13; 8:45 am]

BILLING CODE 9110-04-P